DEPARTMENT OF HEALTH AND HUMAN SERVICES

Centers for Medicare & Medicaid Services

[Document Identifiers CMS-10824]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by March 6, 2023.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a previously approved information collection; Title of Information Collection: Annual Notice of Chance and Evidence of Coverage for Applicable Integrated Plans in States that Require Integrated Materials; Use: CMS requires AIPs to use the approved standardized documents to ensure that correct information is disclosed to current and potential enrollees. Additionally, CMS requires AIPs to submit the completed ANOC and EOC documents to CMS. CMS stores the completed templates. New and current enrollees can review the ANOC and EOC upon receipt to find plan benefits, premiums and cost sharing for the coming year to be in a better position to make informed and educated plan selections. CMS does not require new and current enrollees to review the documents or use them in any way.

MA organizations with AIPs in States that require these integrated documents upload ANOC and EOC documents into the Health Plan Management System (HPMS) to ensure accuracy and regulatory compliance. Section 422.111(h)(2)(ii) requires that, the ANOC/EOC be available on the website and 422.111(d)(2) requires that the plan send the ANOC to the enrollee in hard copy format, upon request. Section 423.128(d)(2) requires that Part D sponsors post the ANOC and EOC documents on their website and send the ANOC only to enrollees electronically or in hard copy. Form Number: CMS-10824 (OMB control number: 0938-New); Frequency: Annually; Affected Public: Private Sector; Businesses or other for-profits; Number of Respondents: 47; Total Annual Responses: 47; Total Annual Hours: 564. (For policy questions regarding this collection contact Julie Jones at 630-337-5863.)

Dated: January 30, 2023.
William N. Parham, III,
Director, Paperwork Reduction Staff, Office of Strategic Operations and Regulatory Affairs.

[FR Doc. 2023-02269 Filed 2-2-23; 8:45 am]

BILLING CODE 4120-01-P